ENVIRONMENTAL PROTECTION AGENCY

40 CFR Part 52

[EPA-R09-OAR-2013-0599; FRL-9906-92-Region-9]

Approval and Promulgation of Implementation Plans; California San Francisco Bay Area and Chico Nonattainment Areas; Fine Particulate Matter Emissions Inventories

AGENCY: Environmental Protection Agency (EPA).

ACTION: Direct final rule.

SUMMARY: The Environmental Protection Agency (EPA) is taking direct final action to approve revisions to the California State Implementation Plan (SIP) concerning emissions inventories for the 2006 24-hour fine particle National Ambient Air Quality Standard (NAAQS) for the San Francisco Bay Area and Chico PM2.5 nonattainment areas. We are approving these emissions inventories under the Clean Air Act (CAA or the Act).

DATES: This rule is effective on May 13, 2014 without further notice, unless EPA receives adverse comments by April 14, 2014. If we receive such comments, we will publish a timely withdrawal in the Federal Register to notify the public that this direct final rule will not take effect.

ADDRESSES: Submit comments, identified by docket number EPA-R09-OAR-2013-0599, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: Generally, documents in the docket for this action are available electronically at www.regulations.gov and in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Nancy Levin, EPA Region IX, (415) 972-3848, levin.nancy@epa.gov.

SUPPLEMENTARY INFORMATION: Throughout this document, “we,” “us,” and “our” refer to EPA.

Table of Contents

I. Background

A. PM2.5 NAAQS

B. Designation of PM2.5 Nonattainment Areas

C. Submittal Requirements for PM2.5 Nonattainment Areas

II. Procedural Requirements for Adoption and Submittal of SIP Revisions

A. Submittal for the San Francisco Bay Area Nonattainment Area

B. Submittal for the Chico Nonattainment Area

III. Analysis of State's Submittals

A. San Francisco Bay Area Emissions Inventory

B. Chico Emissions Inventory

IV. Final Action

V. Statutory and Executive Order Reviews

I. Background

A. PM2.5 NAAQS

Under section 109 of the CAA, EPA establishes national ambient air quality standards (NAAQS or “standards”) for certain pervasive air pollutants (referred to as “criteria pollutants”) and conducts periodic reviews of the NAAQS to determine whether they should be revised or whether new NAAQS should be established.

On July 18, 1997, EPA revised the NAAQS for particulate matter to add new standards for fine particles, using PM2.5 (particles less than or equal to 2.5 micrometers in diameter) as the indicator for the pollutant. EPA established primary and secondary ¹ annual and 24-hour standards for PM2.5 (62 FR 38652). The annual standard was set at 15.0 micrograms per cubic meter (μg/m³), based on a 3-year average of annual mean PM2.5 concentrations, and the 24-hour standard was set at 65 μg/m³, based on the 3-year average of the 98th percentile of 24-hour PM2.5 concentrations at each population-oriented monitor within an area.

¹ For a given air pollutant, “primary” national ambient air quality standards are those determined by EPA as requisite to protect the public health, and “secondary” standards are those determined by EPA as requisite to protect the public welfare from any known or anticipated adverse effects associated with the presence of such air pollutant in the ambient air. See CAA section 109(b).

On October 17, 2006 (71 FR 61144), EPA revised the level of the 24-hour PM2.5 NAAQS to 35 μg/m³, based on a 3-year average of the 98th percentile of 24-hour concentrations. EPA also retained the 1997 annual PM2.5 standard at 15.0 μg/m³ based on a 3-year average of annual mean PM2.5 concentrations, but with tighter constraints on the spatial averaging criteria.

B. Designation of PM2.5 Nonattainment Areas

Effective December 14, 2009, EPA established the initial air quality designations for most areas in the United States for the 2006 24-hour PM2.5 NAAQS. See 74 FR 58688 (November 13, 2009). Among the various areas designated in 2009, EPA designated the San Francisco Bay Area and the Chico area in California as nonattainment for the 2006 24-hour PM2.5 NAAQS.2 3 The boundaries for these areas are described in 40 CFR 81.305.

² The San Francisco Bay Area PM2.5 nonattainment area includes southern Sonoma, Napa, Marin, Contra Costa, San Francisco, Alameda, San Mateo, Santa Clara and the western part of Solano counties.

³ The Chico PM2.5 nonattainment area includes the southwestern two-thirds of Butte County, California. Butte County lies in the central portion of northern California's Sacramento Valley Air Basin, which stretches from Sacramento County in the south to Shasta County in the north.

C. Submittal Requirements for PM2.5 Nonattainment Areas

Section 172(c)(3) of the CAA requires a state with an area designated as nonattainment to submit for EPA approval a comprehensive, accurate, and current inventory of actual emissions for the nonattainment area. EPA's requirements for an emissions inventory for the PM2.5 NAAQS are set forth in 40 CFR 51.1008.4 5 This direct final approval is limited to the emissions inventories for direct PM2.5 and PM2.5 precursors submitted by the California Air Resources Board (CARB) for the San Francisco Bay Area and Chico nonattainment areas as required under section 172(c)(3) of the CAA as applicable to the 2006 PM2.5 24-hour NAAQS.

⁴ 40 CFR 51.1008 (a)(2) and (b) do not apply for the Bay Area or Chico because they relate to requirements for attainment demonstrations and reasonable further progress (RFP), which were suspended for both the Bay Area (78 FR 1760) and Chico (78 FR 55225) PM2.5 nonattainment areas on January 9, 2013 and September 10, 2013, respectively.

⁵ Although the U.S. Court of Appeals for the District of Columbia (DC Circuit) recently remanded this rule and directed EPA to re-promulgate it pursuant to subpart 4 of part D, title I of the CAA (see Natural Resources Defense Council v. EPA, 706 F.2d 428 (D.C. Cir. 2013)), the court's ruling in this case does not affect EPA's action on these emission inventories. Subpart 4 of part D, title I of the Act contains no specific provision governing emission inventories for PM10 or PM2.5 nonattainment areas that supersedes the general emission inventory requirement for all nonattainment areas in CAA section 172(c)(3). See “State Implementation Plans; General Preamble for the Implementation of Title I of the Clean Air Act Amendments of 1990,” 57 FR 13498, 13539 (April 16, 1992).

On January 9, 2013 (78 FR 1760), EPA finalized a determination that the San Francisco Bay Area nonattainment area had attained the 2006 24-hour PM2.5 NAAQS. On September 10, 2013 (78 FR 55225), EPA finalized a determination that the Chico nonattainment area had also attained the 2006 24-hour PM2.5 NAAQS. These determinations of attainment were based upon complete, quality-assured, and certified ambient air monitoring data showing that each area had monitored attainment of the 2006 24-hour PM2.5 NAAQS based on the most-recent three years of monitoring data. Based on these determinations, the requirements for each area to submit an attainment demonstration, together with reasonably available control measures, a reasonable further progress (RFP) plan, and contingency measures for failure to meet RFP and attainment deadlines, are suspended for so long as the area continues to attain the 2006 24-hour PM2.5 NAAQS. The emissions inventory submittal requirement in CAA section 172(c)(3) is not suspended by the determination of attainment, and the State has submitted the Chico and San Francisco Bay Area inventories to address the section 172(c)(3) requirement.

II. Procedural Requirements for Adoption and Submittal of SIP Revisions

Sections 110(a)(1) and 110(l) of the Act require states to provide reasonable notice and public hearing prior to adoption of SIP revisions. Section 110(k)(1)(B) requires EPA to determine whether a SIP submittal is complete within 60 days of receipt. Any plan that we have not affirmatively determined to be complete or incomplete will become complete six months after the day of submittal by operation of law. A finding of completeness does not approve the submittal as part of the SIP nor does it indicate that the submittal is approvable. It does start a 12-month clock for EPA to act on the SIP submittal. See CAA section 110(k)(2).

A. Submittal for the San Francisco Bay Area Nonattainment Area

In this action, we are approving, as a revision to the California SIP, CARB's January 14, 2013 submittal of the 2010 PM2.5 Emissions Inventory for the San Francisco Bay Area (Bay Area emissions inventory).⁶ CARB's submittal to EPA documents the public review process followed by San Francisco Bay Area Air Quality Management District (BAAQMD) and CARB in adopting the Bay Area emissions inventory prior to submittal to EPA as a revision to the SIP. The documentation provides evidence that reasonable notice of a public hearing was provided to the public and that a public hearing was conducted prior to adoption. CARB's submittal documents the adoption of the Bay Area emissions inventory by the BAAQMD Board of Directors on November 7, 2012. The submittal also documents CARB's December 6, 2012 Board resolution approving the Bay Area emissions inventory.⁷ On January 14, 2013, CARB submitted the Bay Area emissions inventory to EPA for approval as a revision to the California SIP.

⁶ CARB adopted the 2010 PM2.5 Emission Inventory for the Bay Area in 2012 and refers to the submittal as the “2012 PM2.5 Emission Inventory to the State Implementation Plan for the San Francisco Bay Area.” However, the actual inventory in the 2012 CARB submittal (Appendix D) is titled, “Bay Area Winter Emissions Inventory for Primary PM2.5 & PM Precursors: Year 2010.” For purposes of this action, any reference to the 2012 PM2.5 Emissons Inventory is equivalent to the Bay Area 2010 winter-time PM2.5 emission inventory.

⁷ CARB Resolution 12-37, December 6, 2012.

CARB's January 14, 2013 submittal of the Bay Area emissions inventory became complete by operation of law on July 14, 2013.

Based on the documentation included in CARB's submittal, we find that the submittal of the Bay Area emissions inventory, as a SIP revision, satisfies the procedural requirements of sections 110(l) of the Act for revising SIPs. For further details, please see EPA's December 20, 2013 Technical Support Document (TSD) for the Bay Area emissions inventory.

B. Submittal for Chico Nonattainment Area

In this action, we are also approving, as a revision to the California SIP, CARB's November 15, 2012 submittal of a 2011 PM2.5 emissions inventory for the Chico PM2.5 nonattainment area (Chico emissions inventory).⁸ CARB's submittal documents the public review process followed by Butte County Air Quality Management District (BCAQMD) and CARB in adopting the Chico emissions inventory prior to submittal to EPA. The documentation provides evidence that reasonable notice of a public hearing was provided to the public and that a public hearing was conducted prior to adoption. CARB's submittal documents the adoption of the emissions inventory by the BCAQMD Board of Directors. On September 27, 2012, the BCAQMD Board of Directors approved the emissions inventory and directed BCAQMD staff to forward the Chico emissions inventory to CARB, the Governor of California's designee for SIP matters.⁹ CARB's submittal also documents its October 18, 2012 Board resolution regarding the Chico emissions inventory.¹⁰

⁸ CARB adopted the 2011 PM2.5 Emission Inventory for the Chico nonattainment area in 2012 and refers to it as the “2012 PM2.5 Emission Inventory Submittal to the State Implementation Plan for the Chico, CA/Butte County (partial) Planning Area.” However, the actual inventory in the CARB submittal (Appendix D) is titled “Chico Nonattainment Area (Partial Butte County) 2011 Daily Winter-Time Emissions Inventory (Base Year 2005-Grown and Controlled in Tons Per Day).” For purposes of this action, any reference to the 2012 PM2.5 Emissions Inventory is equivalent to the Chnico 2011 winter-time PM2.5 emission inventory.

⁹ BCAQMD Revised Resolution No. 2012-12, September 27, 2012.

¹⁰ CARB Resolution 12-31, October 18, 2012.

CARB's November 15, 2012 submittal of the Chico emissions inventory became complete by operation of law on May 15, 2013.

Based on the documentation included in CARB's submittal, we find that the submittal of the Chico emissions inventory as a SIP revision satisfies the procedural requirements of sections 110(l) of the Act for revising SIPs. For further details, please see EPA's December 20, 2013 TSD for the Chico emissions inventory.

III. Analysis of State's Submittals

Section 172(c)(3) of the CAA requires states to submit a comprehensive, accurate, and current inventory of actual emissions for each nonattainment area. EPA's requirements for an emissions inventory for the PM2.5 NAAQS are set forth in 40 CFR 51.1008. For the PM2.5 NAAQS, the pollutants to be inventoried are PM2.5, VOC, NOX, SO2, and NH3.¹¹

¹¹ Emissions Inventory Guidance for Implementation of Ozone and Particulate Matter National Ambient Air Quality Standards (NAAQS) and Regional Haze Regulations, EPA-454/R-05-001, August 2005, updated November 2005. http://www.epa.gov/ttn/chief/eidocs/eiguid/eiguidfinal_nov2005.pdf.

A. San Francisco Bay Area Emissions Inventory

The Bay Area emissions inventory provides a 2010 inventory in tons per day (tpd) winter-time emissions estimates for PM2.5 and PM2.5 precursors (i.e., nitrogen oxides (NOX), volatile organic compounds (VOCs),¹² ammonia (NH3), and sulfur dioxide (SO2)). Monitoring data for the San Francisco Bay Area nonattainment area indicates that high PM2.5 concentrations occur primarily during the winter months; therefore, the Bay Area emissions inventory is a winter-season inventory.¹³ The source categories include stationary sources, area sources, on-road mobile sources and off-road mobile sources. A summary of the Bay Area emissions inventory is provided in Table 1 below, and the detailed Bay Area emissions inventory is found in Attachment 1 of CARB's submittal. CARB received no public comments on this submittal.

¹² BAAQMD uses the term Reactive Organic Gas (ROG) rather than VOC. EPA formerly defined the regulated organic compounds in outdoor air as ROG. However, EPA later changed that terminology to “VOC,” which we use here.

¹³ November 20, 2013 email correspondence from Amir Fanai (BAAQMD) to Nancy Levin (EPA), “FW_Annual v. winter inventory (with attachment).” See also “Understanding Particulate Matter,” 2012, BAAQMD, page 75. Also see ARB Staff Report, “Analysis of the 2012 PM2.5 Emissions Inventory Submittal to the State Implementation Plan for the San Francisco Bay Area,” page 2.

Table 1—San Francisco Bay Area Planning Area 2010 Winter Emissions Inventory in Tons Per Day (tpd)
Source category ¹⁴ | PM2.5 | VOC | NOX | SO2 | NH3
Industrial and Commercial Processes | 5.5 | 13.7 | 3.0 | 7.1 | 6.2
Petroleum Product/Solvent Evaporation | 0.1 | 69.7 | 0.0 | 0.0 | 0.0
Combustion Stationary Sources—Fireplaces | 13.1 | 5.3 | 1.1 | 0.2 | 1.2
Combustion Stationary Sources—Wood Stoves | 3.7 | 2.8 | 0.5 | 0.1 | 0.5
Combustion Stationary Sources—Other | 7.5 | 6.3 | 54.4 | 17.9 | 1.1
On-Road Mobile | 7.3 | 107.4 | 197.6 | 0.9 | 8.7
Off-Road Mobile | 4.3 | 39.6 | 90.4 | 2.8 | 0.0
Miscellaneous Other—Consumer Products (excluding pesticides) | 0.0 | 44.1 | 0.0 | 0.0 | 0.5
Miscellaneous Other—other | 7.9 | 5.1 | 0.2 | 0.0 | 19.1
Totals ᵃ | 49 | 294 | 347 | 29 | 37
ᵃ Totals rounded consistent with submittal.

¹⁴ The source categories and totals in Table 1 represent the combined totals from various subcategories of sources listed in the Bay Area Winter Emissions Inventory for Primary PM2.5 & PM Precursors: Year 2010. See Table 1 in Attachment 1 of the TSD. This summary also breaks out “Combustion Stationary Sources” into fireplaces, woodstoves, and other; and “Miscellaneous Other Sources” into Consumer Products (excluding pesticides) and other.

The Bay Area emissions inventory includes emissions estimates from stationary sources, area sources, on-road mobile sources, and off-road mobile sources. The methodologies used to derive the 2010 inventory for PM2.5 are as follows: ¹⁵

¹⁵ “Understanding Particulate Matter,” 2012, BAAQMD, pages 82-87. http://www.baaqmd.gov/~/media/Files/Planning%20and%20Research/Plans/PM%20Planning/ParticulatesMatter_Nov%207.ashx.

• The stationary source emissions inventory is based on 2010 data of actual emissions reported by all permitted facilities.

• Area-wide source emissions were calculated based on reported data for fuel usage, product sales, population, employment data, and other parameters covering a wide range of activities.

• The BAAQMD used residential 2005-2006 wood burning surveys and mass balance calculations to estimate emissions from fireplaces and woodstoves.¹⁶

¹⁶ In their “Spare the Air Tonight Study, 2005-2006 Winter Wood Smoke Season (2006)” the BAAQMD used probability-based sampling techniques to obtain a representative sample of adult population in the district. A total of 2,625 randomly selected residents participated in a telephone survey on one of 28 interviewing dates between November 22, 2005 and February 17, 2006. The methodology and protocols used are described in the following report: Spare the Air Tonight Study, 2005-2006 Winter Wood Smoke Season, Conducted for the Bay Area Air Quality Management District, 2006.

• Commercial cooking did not include condensable emissions for purposes of methodological consistency, since methods to measure condensable emissions from other sources are not available.

• The on-road emissions inventory, which consists of mobile sources such as trucks, automobiles, buses, and motorcycles, was prepared by CARB using EMFAC2011,¹⁷ an EPA-approved CARB model for on-road motor vehicle emissions.

¹⁷ See 78 FR 14533 (March 6, 2013) regarding EPA approval of the latest version of the California EMFAC model (short for EMissionFACtor) and announcement of its availability. The software and detailed information on the EMFAC vehicle emission model can be found on the following CARB Web site: http://www.arb.ca.gov/msei/msei.htm.

• The off-road mobile source category includes aircraft, trains and boats, and off-road vehicles and equipment used for construction, farming, commercial, industrial, and recreational activities.¹⁸ Off-road emissions were estimated by CARB using category-specific methods and models, and OFFROAD2007.¹⁹

¹⁸ See http://www.arb.ca.gov/msei/categories.htm.

¹⁹ Email from Gabe Ruiz, CARB, to John Ungvarsky, EPA, December 17, 2013. While BAAQMD's “Understanding Particulate Matter” refers to a CARB “OFFROAD2011” model, EPA staff confirmed that CARB “did not produce an integrated version of the OFFROAD model for 2011 (i.e., there is no OFFROAD2011). Instead, off-road emissions were estimated using a suite of models that provide inventory estimates specific to different categories of vehicles. Many of these category-specific models were developed to support recent regulations including in-use off-road equipment, ocean-going vessels, and others. In those instances when a category-specific model was not created, OFFROAD2007 was used.”

• Ship emissions were based on actual data where possible. Commercial boat emissions were calculated based on data collected from CARB's 2004 Statewide Commercial Harbor Craft Survey. Aircraft emissions are based on actual 2010 activity data.

• Paved road emissions were estimated by CARB, based on their 2011 guidance and EPA's AP-42, Fifth Edition, Volume 1, Chapter 13.2.1, Final Section.²⁰

²⁰ AP-42 Fifth Edition, Volume 1, Chapter 13.2.1, Final Section, November 2006, http://www.epa.gov/ttn/chief/ap42/ch13/final/c13s0201.pdf, and Understanding Particulate Matter, page 87, footnote 18. See the Technical Support Document for today's action for additional information on methods used by CARB to calculate paved road emissions.

As noted above, high PM2.5 concentrations in the San Francisco Bay Area nonattainment area occur primarily during the winter months and, therefore, the BAAQMD submitted a winter season inventory. The high winter concentrations are mainly due to meteorological factors, but also are affected by increased residential wood burning during the winter. In addition, cool weather promotes the formation of ammonium nitrate.²¹ Residential wood burning and diesel vehicles comprise about two thirds of the directly emitted PM2.5 emissions. On-road motor vehicles make up the largest source of NOX and VOC emissions.

²¹ “Understanding Particulate Matter,” 2012, BAAQMD, page 75.

EPA has reviewed the results, procedures, and methodologies for the Bay Area emissions inventory. The BAAQMD used standard procedures to develop its emissions inventory. The BAAQMD appropriately used seasonal emissions inventories. After reviewing the CARB submittal of the Bay Area emissions inventory and supporting documentation, EPA finds the Bay Area emissions inventory meets the requirements of the CAA and EPA guidance and, therefore, we are approving it.

B. Chico Emissions Inventory

The SIP revision submitted by CARB on November 15, 2012 for the Chico nonattainment area provides a 2011 winter-time emissions inventory with emissions estimates in tpd for PM2.5 and PM2.5 precursors (i.e., NOX, VOCs,²² NH3, and SO2). Monitoring data for the Chico nonattainment area indicates that high PM2.5 concentrations occur primarily during the winter months; therefore, the submitted inventory is a winter-season inventory.²³ The source categories include stationary sources, area sources, on-road mobile sources, and off-road mobile sources. A summary of the inventory is provided in Table 2 below, and a detailed inventory is found in Appendix D of CARB's submittal. CARB received no public comments on this submittal.

²² BCAQMD uses the term Reactive Organic Gas (ROG) rather than VOC. EPA formerly defined the regulated organic compounds in outdoor air as ROG. However, EPA later changed that terminology to “VOC.”

²³ 2012 PM2.5 Emission Inventory Submittal to the State Implementation Plan for the Chico, CA/Butte County (partial) Planning Area, Figure 4-1.

²⁴ Ibid., Table 5-1.

²⁵ Includes Fuel Combustion, Waste Disposal, Cleaning and Surface Coatings, Petroleum Production and Marketing, Industrial Processes, and Solvent Evaporation.

Table 2—Chico 2011 Daily Winter-Season Emissions Inventory for PM2.5 and Precursors (tpd) ²⁴
Emissions inventory category | PM2.5 | VOC | NOX | SO2 | NH3
Stationary Sources ²⁵ | 0.81 | 1.69 | 2.13 | 0.07 | 0.07
Area Sources:
Residential Wood Heating | 2.36 | 3.40 | 0.28 | 0.05 | 0.15
All Other Residential Heating | 0.04 | 0.03 | 0.59 | 0.02 | 0.00
Agricultural (Managed) Burning | 1.16 | 0.93 | 0.68 | 0.11 | 0.12
Construction Fugitives | 0.10 | 0.00 | 0.00 | 0.00 | 0.00
Agricultural Fugitives | 0.19 | 0.32 | 0.00 | 0.00 | 0.58
Paved and Unpaved Road Dust (Construction Fugitives) | 0.33 | 0.00 | 0.00 | 0.00 | 0.00
All Other Area Sources (General Area Sources) | 0.08 | 4.34 | 0.00 | 0.00 | 3.61
ᵃ Mobile Sources:
On-Road | 0.27 | 3.23 | 8.71 | 0.03 | 0.23
Off-Road | 0.23 | 2.34 | 4.82 | 0.06 | 0.002
Totals ᵃ | 5.57 | 16.28 | 17.22 | 0.33 | 4.77
²⁵ Totals may not precisely match categories because of rounding but are consistent with submittal.

For the Chico nonattainment area, the BCAQMD used a base year of 2005, which was the latest completed comprehensive inventory available.²⁶ This base year inventory was then “grown and controlled” ²⁷ for 2011. For the PM2.5 NAAQS, the pollutants to be inventoried are PM2.5, VOC, NOX, SO2, and NH3.²⁸ The inventory includes emissions estimates from stationary sources, area sources, on-road mobile sources, and off-road mobile sources. The submittal also includes PM2.5 emissions in BCAQMD's 2011 Emissions Reduction Credit (ERC) register and Community Bank reserve. These potential future emissions are not included in the 2011 winter-time PM2.5 emissions inventory for Chico, but BCAQMD recognizes their potential to be emitted in the future if authorized to meet New Source Review requirements.

²⁶ Email from Armen Kamian, BCAQMD to Nancy Levin, EPA, August 8, 2013.

²⁷ “Grown” refers to including population growth, new roads, additional housing units, increased road traffic, etc. “Controlled” refers to including control measures.

²⁸ Emissions Inventory Guidance for Implementation of Ozone and Particulate Matter National Ambient Air Quality Standards (NAAQS) and Regional Haze Regulations, EPA-454/R-05-001, August 2005, updated November 2005. http://www.epa.gov/ttn/chief/eidocs/eiguid/eiguidfinal_nov2005.pdf.

²⁹ Implementation Guidance for the 2006 24-Hour Fine Particle (PM2.s) National Ambient Air Quality Standards (NAAQS). U.S. EPA Memorandum from S. Page, March 2, 2012.

Table 3—Chico 2011 Winter-Time PM2.5 ERCs (tpd)
2011 ERC Registry (October-April) | 0.30
Community Bank (October-April) | 0.06
Total | 0.36

The stationary point source emissions inventory was developed from information the BCAQMD has on file for permitted facilities. The source categories include, but are not limited to, most fuel combustion, waste disposal, cleaning and surface coating, petroleum marketing and production, and industrial process facilities, as well as those subject to the federal Title V program. For this inventory, stationary sources also include auto body shops, dry cleaners, and gasoline stations. General area sources include solvent evaporation and other sources for which BCAQMD followed CARB's methodologies to calculate the emissions inventory estimates.³⁰ The BCAQMD developed the woodstove/fireplace emissions estimates using California housing data, Butte County Association of Governments' growth predictions, and CARB emissions factors to determine the potential reductions from BCAQMD Rule 207, Residential Wood Combustion.)³¹

³⁰ See http://www.arb.ca.gov/msei/areas src/inde0.htm.

³¹ Memorandum, Control Profile Rule 207 Residential Wood Combustion, and attachment from Gail Williams, BCAQMD to Anna Komorniczak and Monique Davis, CARB, October 12, 2010; District Rule 207 Wood Burning Devices (Adopted October 25, 2001; Recodified August 22, 2002; Amended December 11, 2008).

Mobile sources include on-road and off-road emissions. On-road mobile source emissions were estimated by CARB using the EMFAC2011model. Off-road emissions were estimated by CARB using category-specific methods and models, and OFFROAD2007.³² Residential wood heating accounts for almost half of the winter directly emitted PM2.5 emissions, and mobile sources are the largest contributors to NOX emissions.

³² December 16, 2013 email from Armen Kamian, BCAQMD to Nancy Levin, EPA Region 9.

EPA has reviewed the results, procedures, and methodologies for the submitted emissions inventory. The BCAQMD used standard procedures to develop its emissions inventory. The BCAQMD appropriately used seasonal emissions inventories. After reviewing the CARB submittal of the Chico emissions inventory and supporting documentation, EPA finds the emissions inventory meets the requirements of the CAA and EPA guidance and, therefore, we are approving it.

IV. Final Action

EPA is taking direct final action to approve the PM2.5 and PM2.5 precursor emissions inventories submitted by CARB on January 14, 2013 for the San Francisco Bay Area nonattainment area, and on November 15, 2012 for the Chico nonattainment area. EPA has determined that this action is consistent with sections 110 and 172(c)(3) of the CAA. EPA is publishing this rule without prior proposal because the Agency views this as a non-controversial revision and anticipates no adverse comments. However, in the Proposed Rules section of this Federal Register, we are simultaneously proposing approval of the same submitted emissions inventories. If we receive adverse comments by April 14, 2014, we will publish a timely withdrawal in the Federal Register to notify the public that the direct final approval will not take effect, and we will address the comments in a subsequent final action based on the proposal. If we do not receive timely adverse comments, the direct final approval will be effective without further notice on May 13, 2014. This will incorporate these emissions inventories into the federally enforceable SIP.

Please note that if EPA receives adverse comment on an amendment, paragraph, or section of this SIP revision, and if that provision may be severed from the remainder of the revision, EPA may adopt as final those provisions of the revision that are not the subject of an adverse comment.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

In addition, this action does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by May 13, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the Proposed Rules section of today's Federal Register, rather than file an immediate petition for judicial review of this direct final rule, so that EPA can withdraw this direct final rule and address the comment in the proposed rulemaking. This action may not be challenged later in proceedings to enforce its requirements (see section 307(b)(2)).

List of Subjects in 40 CFR Part 52

Environmental protection, Air pollution control, Incorporation by reference Intergovernmental relations, Nitrogen dioxide, Particulate matter, Reporting and recordkeeping requirements, Sulfur oxides, Volatile organic compounds.

Dated: January 30, 2014.
Jared Blumenfeld,
Regional Administrator, Region IX.

Part 52, Chapter I, Title 40 of the Code of Federal Regulations is amended as follows:

PART 52—APPROVAL AND PROMULGATION OF IMPLEMENTATION PLANS

1. The authority citation for Part 52 continues to read as follows:

Authority: 42 U.S.C. 7401 et seq.

Subpart F—California

2. Section 52.220 is amended by adding paragraphs (c)(434) and (435) to read as follows:

§ 52.220 Identification of plan.

* * * * *

(c) * * *

(434) A plan revision submitted on November 15, 2012 by the Governor's Designee.

(i) [Reserved]

(ii) Additional materials.

(A) Butte County Air Quality Management District.

(1) “2012 PM2.5 Emission Inventory Submittal to the State Implementation Plan for the Chico, CA/Butte County (partial) Planning Area,” as submitted by the California Air Resources Board on November 15, 2012. The document in CARB's submittal is titled, “Chico Nonattainment Area (Partial Butte County) 2011 Daily Winter-Time Emissions Inventory (Base Year 2005—Grown and Controlled in Tons Per Day.”

(435) A plan revision submitted on January 14, 2013 by the Governor's Designee.

(i) [Reserved]

(ii) Additional materials.

(A) San Francisco Bay Area Air Quality Management District.

(1) “2012 PM2.5 Emission Inventory to the State Implementation Plan for the San Francisco Bay Area” as submitted by the California Air Resources Board on January 14, 2013. The document in CARB's submittal is titled, “Bay Area Winter Emissions Inventory for Primary PM2.5 & PM Precursors: Year 2010.”

* * * * *

[FR Doc. 2014-05527 Filed 3-13-14; 8:45 am]

BILLING CODE 6560-50-P